DEPARTMENT OF ENERGY

Federal Energy Regulatory Commission

[Docket Nos. EG14-1-000, EG14-2-000, EG14-3-000, et al.]

Notice of Effectiveness of Exempt Wholesale Generator or Foreign Utility Company Status

| Docket Nos.
Burgess Biopower LLC | EG14-1-000.
West Deptford Energy, LLC | EG14-2-000.
Miami Wind I LLC | EG14-3-000.
PE Hydro Generation, LLC | EG14-4-000.
Seneca Generation, LLC | EG14-5-000.
Lake Lynn Generation, LLC | EG14-6-000.
All Dam Generation, LLC | EG14-7-000.
Yellow Jacket Energy, LLC | EG14-8-000.
Gibson City Energy Center, LLC | EG14-9-000.
Elgin Energy Center, LLC | EG14-10-000.
Grand Tower Energy Center, LLC | EG14-11-000.
Lakeswind Power Partners, LLC | EG14-12-000.
Boryszewo Wind Invest Sp. Zoo | FC14-1-000.
Krupy Wind Invest Sp. Zoo | FC14-2-000.
Nowy Jaroslaw Invest Sp. Zoo | FC14-3-000.
Stary Jarolslaw Invest Sp. Zoo | FC14-4-000.
Sandringham Solar Energy Partnership | FC14-5-000.
Woodville Solar Energy Partnership | FC14-6-000.
Bettyhill Wind Energy Limited | FC14-7-000.
Gorzyca Wind Invest Sp. Zoo | FC14-8-000.
Pekanino Wind Invest Sp. Zoo | FC14-9-000.

Take notice that during the month of December 2013, the status of the above-captioned entities as Exempt Wholesale Generators or Foreign Utility Companies became effective by operation of the Commission's regulations. 18 CFR 366.7(a).

Dated: January 9, 2014.
Kimberly D. Bose,
Secretary.

[FR Doc. 2014-00790 Filed 1-16-14; 8:45 am]

BILLING CODE 6717-01-P